DEPARTMENT OF COMMERCE

Foreign-Trade Zones Board

[Order No. 1514]

Expansion of Foreign-Trade Zone 230, Piedmont Triad Area, North Carolina

Pursuant to its authority under the Foreign-Trade Zones Act of June 18, 1934, as amended (19 U.S.C. 81a-81u), the Foreign-Trade Zones Board (the Board) adopts the following Order:

Whereas, the Piedmont Triad Partnership, grantee of Foreign-Trade Zone 230, submitted an application to the Board for authority to expand the zone to include seven sites in the Piedmont Triad area and to formally delete 110 acres (Parcel 2) within Site 3 from the zone plan, adjacent to the Winston-Salem Customs and Border Protection port of entry (FTZ Docket 13-2006; filed 4/7/06; amended 4/13/07);

Whereas, notice inviting public comment was given in the Federal Register (71 FR 19871, 4/18/06) and the application has been processed pursuant to the FTZ Act and the Board's regulations; and,

Whereas, the Board adopts the findings and recommendations of the examiner's report, and finds that the requirements of the FTZ Act and Board's regulations are satisfied, and that the proposal, as amended, is in the public interest;

Now, therefore, the Board hereby orders:

The application, as amended, to expand FTZ 230 is approved, subject to the FTZ Act and the Board's regulations, including Section 400.28, subject to the Board's standard 2,000-acre activation limit for the overall zone project, and further subject to a sunset provision that would terminate authority on June 30, 2012, for any of the proposed sites (Sites 7-13) where no activity has occurred under FTZ procedures before that date.

Signed at Washington, DC, this 21st day of June 2007.

David M. Spooner,
Assistant Secretary of Commerce for Import Administration, Alternate Chairman, Foreign-Trade Zones Board.
Attest:
Andrew McGilvray,
Executive Secretary.

[FR Doc. E7-12757 Filed 6-29-07; 8:45 am]

BILLING CODE 3510-DS-S